DEPARTMENT OF VETERANS AFFAIRS

[OMB Control No. 2900-0004]

Agency Information Collection (Supplement to VA Forms 21P-534, 534a, & 534EZ) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before June 8, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0004” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0004.”

SUPPLEMENTARY INFORMATION: Title: Supplement to VA Forms 21P-534, 21P-534a, and 21P-534EZ.

OMB Control Number: 2900-0004.

Type of Review: Revision of a currently approved collection.

Abstract: VA Form 21P-534, 534a, and 534EZ is used to gather the necessary information to determine the eligibility of surviving spouses and children for dependency and indemnity compensation (DIC), death pension, accrued benefits, and death compensation. VA Form 21P-534a is an abbreviated application for DIC that is used only by surviving spouses and children of veterans who died while on active duty service. The VA Form 21P-534EZ is used for the Fully Developed Claims (FDC) program for pension claims; claimants applying for Parents DIC can use this form also.

An agency may not conduct or sponsor, and a person is not required to respond to a collection of information unless it displays a currently valid OMB control number. The Federal Register Notice with a 60-day comment period soliciting comments on this collection of information was published at 79 FR 57659 on September 25, 2014.

Affected Public: Individuals or households.

Estimate Information Collection Burden

a. Number of Respondents: 101,425:

VA Form 21P-534—25,000

VA Form 21P-534a—1,425

VA Form 21P-534EZ—75,000

b. Frequency of Response: one time.

c. Annual Burden is 62,856 hours:

VA Form 21P-534—31,250

VA Form 21P-534a—356

VA Form 21P-534EZ—31,250

d. Estimated completion times based on review by staff personnel:

VA Form 21P-534—75 minutes

VA Form 21P-534a—15 minutes

VA Form 21P-534EZ—25 minutes

Frequency of Response: One-time.

Estimated Number of Respondents: 1,000.

By direction of the Secretary.
Crystal Rennie,
Department Clearance Officer, Department of Veterans Affairs.

[FR Doc. 2015-11120 Filed 5-7-15; 8:45 am]

BILLING CODE 8320-01-P